ENVIRONMENTAL PROTECTION AGENCY

[FRL-9681-3; EPA-HQ-ORD-2012-0358]

An Assessment of Potential Mining Impacts on Salmon Ecosystems of Bristol Bay, Alaska—Peer Review Panel Members and Charge Questions

AGENCY: Environmental Protection Agency (EPA).

ACTION: Notice of availability and public comment period.

SUMMARY: EPA is announcing the peer review panel members assembled by an independent contractor to evaluate the draft document titled, “An Assessment of Potential Mining Impacts on Salmon Ecosystems of Bristol Bay, Alaska” (EPA-910-R-12-004a-c). EPA is also announcing a three week public comment period for the draft charge questions to be provided to the peer review panel. The assessment was prepared by the U.S. EPA's Region 10 Office (Pacific Northwest and Alaska), EPA's Office of Water, and EPA's Office of Research and Development. The U.S. EPA conducted this assessment to determine the significance of Bristol Bay's ecological resources and evaluate the potential impacts of large-scale mining on these resources.

DATES: The public comment period begins June 5, 2012, and ends June 26, 2012. Comments should be in writing and must be received by EPA by June 26, 2012.

Availability: Draft charge questions are provided below. Copies of the draft charge questions are also available via the Internet on the EPA Region 10 Bristol Bay Web site at www.epa.gov/bristolbay. The draft document “An Assessment of Potential Mining Impacts on Salmon Ecosystems of Bristol Bay, Alaska” is also available on the Internet on the EPA Region 10 Bristol Bay Web site at www.epa.gov/bristolbay. A limited number of paper copies of the draft charge questions are available from the Information Management Team, NCEA; telephone: 703-347-8561; facsimile: 703-347-8691. If you are requesting a paper copy, please provide your name, your mailing address, and title, “Peer Review Charge Questions on An Assessment of Potential Mining Impacts on Salmon Ecosystems of Bristol Bay, Alaska.”

Comments on the draft charge questions may be submitted electronically via www.regulations.gov, by email, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-9744; or email: ORD.Docket@epa.gov.

For technical information concerning the report, contact Judy Smith; telephone: 503-326-6994; facsimile: 503-326-3399; or email: r10bristolbay@epa.gov.

SUPPLEMENTARY INFORMATION:

I. Information About the Project

The U.S. EPA conducted this assessment to determine the significance of Bristol Bay's ecological resources and evaluate the potential impacts of large-scale mining on these resources. The U.S. EPA will use the results of this assessment to inform the consideration of options consistent with its role under the Clean Water Act. The assessment is intended to provide a scientific and technical foundation for future decision making. The Web site that describes the project is www.epa.gov/bristolbay.

EPA released the draft assessment for the purposes of public comment and peer review on May 18, 2012. Consistent with guidelines for the peer review of highly influential scientific assessments, EPA asked a contractor (Versar, Inc.) to assemble a panel of experts to evaluate the draft report. Versar evaluated the 86 candidates nominated during a previous public comment period (February 24, 2012 to March 16, 2012) and sought other experts to complete this peer review panel. The twelve peer review panel members are as follows:

Mr. David Atkins, Watershed Environmental, LLC.—Expertise in mining and hydrology.

Mr. Steve Buckley, WHPacific/NANA Alaska—Expertise in mining and seismology.

Dr. Courtney Carothers—Expertise in indigenous Alaskan cultures.

Dr. Dennis Dauble, Washington State University—Expertise in fisheries biology and wildlife ecology.

Dr. Gordon Reeves, USDA Pacific NW Research Station—Expertise in fisheries biology and aquatic biology.

Dr. Charles Slaughter, University of Idaho—Expertise in hydrology.

Dr. John Stednick, Colorado State University—Expertise in hydrology and biogeochemistry.

Dr. Roy Stein, Ohio State University—Expertise in fisheries and aquatic biology.

Dr. William Stubblefield, Oregon State University—Expertise in aquatic biology and ecotoxicology.

Dr. Dirk van Zyl, University of British Columbia—Expertise in mining and biogeochemistry.

Dr. Phyllis Weber Scannel—Expertise in aquatic ecology and ecotoxicology.

Dr. Paul Whitney—Expertise in wildlife ecology and ecotoxicology.

The peer review panel will be provided with draft charge questions to guide their evaluation of the draft assessment. These draft charge questions are designed to focus reviewers on specific aspects of the report. EPA is seeking comments from the public on the draft charge questions and welcome input on additional charge questions consistent with the objectives of the assessment. The draft charge questions are as follows:

(1) The assessment brought together information to characterize the ecological, geological, and cultural resources of the Nushagak and Kvichak watersheds. Was this characterization accurate? Was any significant literature missed that would be useful to complete this characterization?

(2) A formal mine plan or application is not available for the porphyry copper deposits in the Bristol Bay watershed. EPA developed a hypothetical mine scenario for its risk assessment. Given the type and location of copper deposits in the watershed, was this hypothetical mine scenario realistic? Has EPA appropriately bounded the magnitude of potential mine activities with the minimum and maximum mine sizes used in the scenario? Is there significant literature not referenced that would be useful to refine the mine scenario?

(3) EPA assumed two potential modes for mining operations: A no-failure mode of operation and a mode outlining one or more types of failures. The no-failure operation mode assumes best practical engineering and mitigation practices are in place and in optimal operating condition. Is the no-failure mode of operation adequately described? Is the choice of engineering and mitigation practices reasonable and consistent with current practices?

(4) Are the potential risks to salmonid fish due to habitat loss and modification and water quantity/quality changes appropriately characterized and described for the no-failure mode of operation? Does the assessment appropriately describe the risks to salmonid fish due to operation of a transportation corridor under the no-failure mode of operation?

(5) Do the failures outlined in the assessment reasonably represent potential system failures that could occur at a mine of the type and size outlined in the mine scenario? Is there a significant type of failure that is not described? Are the assumed risks of failures appropriate?

(6) Does the assessment appropriately characterize risks to salmonid fish due to a potential failure of water and leachate collection and treatment from the mine site? If not, what suggestions do you have for improving this part of the assessment?

(7) Does the assessment appropriately characterize risks to salmonid fish due to culvert failures along the transportation corridor? If not, what suggestions do you have for improving this part of the assessment?

(8) Does the assessment appropriately characterize risks to salmonid fish due to pipeline failures? If not, what suggestions do you have for improving this part of the assessment?

(9) Does the assessment appropriately characterize risks to salmonid fish due to a potential tailings dam failure? If not, what suggestions do you have for improving this part of the assessment?

(10) Does the assessment appropriately characterize risks to wildlife and human cultures due to risks to fish? If not, what suggestions do you have for improving this part of the assessment?

(11) Does the assessment appropriately describe the potential for cumulative risk from multiple mines?

(12) Does the assessment identify the uncertainties and limitations associated with the mine scenario and the identified risks?

The preferred method to submit comments on the draft peer review charge is through the docket, which is described below. This docket is separate from the docket collecting public comments on the draft assessment itself. The EPA will evaluate comments received on these draft charge questions. Charge questions will be finalized and provided to EPA's independent contractor, Versar, Inc., who will convene the expert panel for independent external peer review.

The external peer review panel meeting is scheduled to be held in Anchorage, AK on August 7, 8, and 9, 2012. The public will be invited to attend on August 7 and 8, 2012. Further information regarding the external peer review panel meeting will be announced at a later date in the Federal Register.

II. How to Submit Technical Comments to the Docket at www.regulations.gov

Submit your comments, identified by Docket ID No. EPA-HQ-ORD-2012-0358, by one of the following methods:

• www.regulations.gov: Follow the on-line instructions for submitting comments.

• Email: ORD.Docket@epa.gov. Include the docket number EPA-HQ-ORD-2012-0358 in the subject line of the message.

• Fax: 202-566-9744.

• Mail: Office of Environmental Information (OEI) Docket (Mail Code: 28221T), Docket # EPA-HQ-ORD-2012-0358, U.S. Environmental Protection Agency, 1200 Pennsylvania Avenue NW., Washington, DC 20460. The phone number is 202-566-1752. If you provide comments by mail, please submit one unbound original with pages numbered consecutively, and three copies of the comments. For attachments, provide an index, number pages consecutively with the comments, and submit an unbound original and three copies.

• Hand Delivery: The OEI Docket is located in the EPA Headquarters Docket Center, Room 3334, EPA West Building, 1301 Constitution Avenue NW., Washington, DC. The EPA Docket Center Public Reading Room is open from 8:30 a.m. to 4:30 p.m., Monday through Friday, excluding legal holidays. The telephone number for the Public Reading Room is 202-566-1744. Deliveries are only accepted during the docket's normal hours of operation, and special arrangements should be made for deliveries of boxed information. If you provide comments by hand delivery, please submit one unbound original with pages numbered consecutively, and three copies of the comments. For attachments, provide an index, number pages consecutively with the comments, and submit an unbound original and three copies.

Instructions: Direct your comments to Docket ID No. EPA-HQ-ORD-2012-0358. Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comments due to technical difficulties and cannot contact you for clarification, EPA may not be able to consider your comments. Electronic files should avoid the use of special characters and any form of encryption and be free of any defects or viruses. For additional information about EPA's public docket visit the EPA Docket Center homepage at www.epa.gov/epahome/dockets.htm.

Docket: Documents in the docket are listed in the www.regulations.gov_index. Although listed in the index, some information is not publicly available, e.g., CBI or other information whose disclosure is restricted by statute. Certain other material, such as copyrighted material, will be publicly available only in hard copy. Publicly available docket materials are available either electronically in www.regulations.gov or in hard copy at the OEI Docket in the EPA Headquarters Docket Center.

Dated: May 30, 2012.
Darrel A. Winner,
Acting Director, National Center for Environmental Assessment.

[FR Doc. 2012-13431 Filed 6-4-12; 8:45 am]

BILLING CODE 6560-50-P